Proclamation 7942 of October 7, 2005

National School Lunch Week, 2005

By the President of the United States of America

A Proclamation

Since 1946, the National School Lunch Program has contributed to the welfare of our Nation's youth and the academic mission of our schools. Each year during National School Lunch Week, we recognize this valuable program and highlight the continuing importance of providing America's children with access to nutritious meals.

Today, nearly 100,000 public and private schools and residential child care institutions are implementing the National School Lunch Program, providing fresh fruits and vegetables, milk, and other nutritious food choices to an average of 29 million children each school day. The School Breakfast Program and the availability of after-school snacks as part of the School Lunch Program give children additional opportunities to receive a more wholesome diet.

Through the National School Lunch Program, school officials and food service professionals continue to demonstrate their dedication to our Nation's youth. To support these efforts, the U.S. Department of Agriculture's Team Nutrition provides important nutrition education programs for children and technical training programs for food service professionals to assist them in preparing healthy school lunches. The National School Lunch Program also supports the HealthierUS School Challenge, an initiative that recognizes schools and local communities for actively promoting healthy lifestyles. By encouraging healthy eating habits and access to nutritious food, we are helping America's young people succeed in school, and we are helping protect them against childhood obesity, diabetes, and the risk of other serious health problems later in life.

In recognition of the contributions of the National School Lunch Program to the health, education, and well-being of America's children, the Congress, by joint resolution of October 9, 1962 (Public Law 87-780), as amended, has designated the week beginning on the second Sunday in October of each year as “National School Lunch Week,” and has requested the President to issue a proclamation in observance of this week.

NOW, THEREFORE, I, GEORGE W. BUSH, President of the United States of America, do hereby proclaim October 9 through October 15, 2005, as National School Lunch Week. I call upon all Americans to join the dedicated individuals who administer the National School Lunch Program in appropriate activities that support the health and well-being of our Nation's children.

IN WITNESS WHEREOF, I have hereunto set my hand this seventh day of October, in the year of our Lord two thousand five, and of the Independence of the United States of America the two hundred and thirtieth.

B

[FR Doc. 05-20656

Filed 10-12-05; 9:18 am]

Billing code 3195-01-P